DEPARTMENT OF TRANSPORTATION

Federal Aviation Administration

14 CFR Part 39

[Docket No. FAA-2021-0049; Project Identifier MCAI-2021-00033-A; Amendment 39-21427; AD 2021-04-06]

RIN 2120-AA64

Airworthiness Directives; Pilatus Aircraft Ltd. Airplanes

AGENCY: Federal Aviation Administration (FAA), DOT.

ACTION: Final rule; request for comments.

SUMMARY: The FAA is adopting a new airworthiness directive (AD) for all Pilatus Aircraft Ltd. (Pilatus) Model PC-7 airplanes. This AD results from mandatory continuing airworthiness information (MCAI) issued by the aviation authority of another country to identify and correct an unsafe condition on an aviation product. The MCAI describes the unsafe condition as a missing release bar retaining screw on a Harley-type buckle assembly installed on a harness shoulder strap. This condition, if not corrected, could lead to loss of pilot restraint and consequently loss of airplane control or injuries to the crew. The FAA is issuing this AD to address the unsafe condition on these products.

DATES: This AD is effective February 12, 2021.

The Director of the Federal Register approved the incorporation by reference of a certain publication listed in this AD as of February 12, 2021.

The FAA must receive comments on this AD by March 29, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For IrvinGQ Limited service information identified in this final rule, contact Pilatus Aircraft Ltd., CH-6371, Stans, Switzerland; phone: +41 848 24 7 365; email: techsupport.ch@pilatus-aircraft.com; website: https://www.pilatus-aircraft.com/. You may view this service information at the FAA, Airworthiness Products Section, Operational Safety Branch, 901 Locust, Kansas City, Missouri 64106. For information on the availability of this material at the FAA, call (816) 329-4148. It is also available at https://www.regulations.gov by searching for and locating Docket No. FAA-2021-0049.

Examining the AD Docket

You may examine the AD docket at https://www.regulations.gov by searching for and locating Docket No. FAA-2021-0049; or in person at Docket Operations between 9 a.m. and 5 p.m., Monday through Friday, except Federal holidays. The AD docket contains this final rule, any comments received, and other information. The street address for the Docket Operations is listed above.

FOR FURTHER INFORMATION CONTACT: Doug Rudolph, Aviation Safety Engineer, General Aviation & Rotorcraft Section, International Validation Branch, FAA, 901 Locust, Room 301, Kansas City, Missouri 64106; phone: (816) 329-4059; fax: (816) 329-4090; email: doug.rudolph@faa.gov.

SUPPLEMENTARY INFORMATION:

Background

The Federal Office of Civil Aviation (FOCA), which is the aviation authority for Switzerland, has issued FOCA AD HB-2021-001-E, dated January 8, 2021 (referred to after this as “the MCAI”), to address the unsafe condition on Pilatus Model PC-7 airplanes. The MCAI states:

An occurrence was reported where in an in service event a missing release bar retaining screw on a Harley-type buckle assembly installed on a harness shoulder strap on an ejection seat was detected.

This condition, if not corrected, could lead to loss of pilot restraint and consequently loss of aeroplane control or injuries to the crew.

To address this potential unsafe condition, Pilatus and IrvinGQ issued the [service bulletins] SBs to provide inspection instructions.

For the reason described above, this [FOCA] AD requires the inspection of the Harley-type buckle assemblies on the seat harnesses of the front and rear seats, as defined in this AD, and prohibits (re-)installation of affected parts.

FOCA advises that the release bar retaining screws on the affected Harley-type buckle assemblies were incorrectly peened during manufacture. This inadequate peening of the retaining screws has led to loose screws that can potentially be removed by hand or the actual screw falling out of the assemblies. You may examine the MCAI in the AD docket at https://www.regulations.gov by searching for and locating Docket No. FAA-2021-0049.

FAA's Determination

This product has been approved by the aviation authority of another country and is approved for operation in the United States. Pursuant to our bilateral agreement with the State of Design Authority, it has notified the FAA of the unsafe condition described in the MCAI and service information referenced above. The FAA is issuing this AD because the agency has determined the unsafe condition described previously is likely to exist or develop in other products of the same type design.

Related Service Information Under 1 CFR Part 51

The FAA reviewed IrvinGQ Limited Service Bulletin IGQSB033, Issue 2, dated December 2020 (IrvinGQ SB IGQSB033, Issue 2). This service information provides a listing of the affected parts and specifies procedures for inspecting the Harley-type buckle assemblies and repairing or replacing as necessary. This service information is reasonably available because the interested parties have access to it through their normal course of business or by the means identified in ADDRESSES.

Other Related Service Information

The FAA also reviewed Pilatus PC-7 Service Bulletin No. 25-015, Revision 1, dated December 22, 2020. This service information specifies inspecting and repairing the Harley-type buckle assemblies in accordance with IrvinGQ SB IGQSB033, Issue 2.

AD Requirements

This AD requires accomplishing the actions specified in the IrvinGQ Limited service information already described.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies waiving notice and comment prior to adoption of this rule because detachment of a shoulder strap from the main harness assembly could lead to loss of pilot restraint during operational maneuvers. Because this model airplane is certificated in the acrobatic category, if the pilot is not restrained during aerobatic flight, or even some normal operations, it may result in loss of airplane control, or injuries to the crew. For this reason, the FAA has determined that operators must comply with the actions required by this AD before further flight. Accordingly, notice and opportunity for prior public comment are unnecessary, pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0049 and Project Identifier MCAI-2021-00033-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Doug Rudolph, Aviation Safety Engineer, General Aviation & Rotorcraft Section, International Validation Branch, FAA, 901 Locust, Room 301, Kansas City, Missouri 64106. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 21 airplanes of U.S. registry. The FAA also estimates that it would take about .5 work-hour per product to comply with the inspection requirement of this AD. The average labor rate is $85 per work-hour.

Based on these figures, the FAA estimates the cost of the AD on U.S. operators would be $892.50 or $42.50 per product.

In addition, the FAA estimates that any necessary follow-on repair actions would take .5 work-hour, for a cost of $42.50 per seat harness. The FAA estimates that any necessary replacements that may be required would take 3 work-hours and require parts costing $10,000, for a cost of $10,255 per seat harness. The FAA has no way of determining the number of airplanes that may need these actions.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-04-06 Pilatus Aircraft Ltd.: Amendment 39-21427; Docket No. FAA-2021-0049; Project Identifier MCAI-2021-00033-A.

(a) Effective Date

This airworthiness directive (AD) is effective February 12, 2021.

(b) Affected ADs

None.

(c) Applicability

This AD applies to Pilatus Aircraft Ltd. Model PC-7 airplanes, all serial numbers, certificated in any category.

(d) Subject

Joint Aircraft System Component (JASC) Code 2510, Flight Compartment and 2560, Emergency Equipment.

(e) Unsafe Condition

This AD was prompted by a report of a missing release bar retaining screw on a Harley-type buckle assembly installed on a harness shoulder strap. The FAA is issuing this AD to detect and address defective buckle assembly release bar screws. The unsafe condition, if not addressed, could result in loss of pilot restraint with consequent loss of airplane control or injuries to the crew.

(f) Actions and Compliance

(1) For airplanes with a Harley-type seat buckle assembly or buckle component listed in the Effectivity, paragraph 2.A., of IrvinGQ Limited Service Bulletin IGQSB033, Issue 2, dated December 2020 (IrvinGQ SB IGQSB033, Issue 2), before further flight after the effective date of this AD, inspect each seat buckle assembly on the front and rear seats (4 buckle assemblies total) for movement of the release bar retaining screws by following the Accomplishment Instructions, section 3.C.(1), of IrvinGQ SB IGQSB033, Issue 2. If there is any movement of a release bar retaining screw, before further flight, repair or replace the buckle assembly by following the Accomplishment Instructions, section 3.C.(2), of IrvinGQ SB IGQSB033 Issue 2.

(2) As of the effective date of this AD, do not install a Harley-type buckle assembly or buckle component listed in the Effectivity, paragraph 2.A., of IrvinGQ SB IGQSB033 Issue 2, on the seat harness of any airplane unless it has been inspected as required by paragraph (f)(1) of this AD.

(g) Special Flight Permit

A special flight permit may be issued with the following limitations: Operation in areas of known turbulence and aerobatic flight are prohibited.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information.

(2) Before using any approved AMOC, notify your appropriate principal inspector, or lacking a principal inspector, the manager of the local flight standards district office/certificate holding district office.

(i) Related Information

(1) Refer to Federal Office of Civil Aviation (FOCA) AD HB-2021-001-E, dated January 8, 2021, for more information. You may examine the FOCA AD at https://www.regulations.gov by searching for and locating Docket No. FAA-2021-0049.

(2) For more information about this AD, contact Doug Rudolph, Aviation Safety Engineer, General Aviation & Rotorcraft Section, International Validation Branch, FAA, 901 Locust, Room 301, Kansas City, Missouri 64106; phone: (816) 329-4059; fax: (816) 329-4090; email: doug.rudolph@faa.gov.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) IrvinGQ Limited Service Bulletin IGQSB033, Issue 2, dated December 2020.

(ii) [Reserved]

(3) For IrvinGQ Limited service information identified in this AD, contact Pilatus Aircraft Ltd., CH-6371, Stans, Switzerland; phone: +41 848 24 7 365; email: techsupport.ch@pilatus-aircraft.com; website: http://www.pilatus-aircraft.com/.

(4) You may view this service information at FAA, Airworthiness Products Section, Operational Safety Branch, 901 Locust, Kansas City, Missouri 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on February 4, 2021.
Gaetano A. Sciortino,
Deputy Director for Strategic Initiatives, Compliance & Airworthiness Division, Aircraft Certification Service.

[FR Doc. 2021-02793 Filed 2-10-21; 11:15 am]

BILLING CODE 4910-13-P